DEPARTMENT OF TRANSPORTATION

Federal Aviation Administration

14 CFR Part 39

[Docket No. FAA-2012-1087; Directorate Identifier 2009-SW-32-AD; Amendment 39-17424; AD 2013-08-07]

RIN 2120-AA64

Airworthiness Directives; Eurocopter France Helicopters

AGENCY: Federal Aviation Administration (FAA), DOT.

ACTION: Final rule.

SUMMARY: We are adopting a new airworthiness directive (AD) for Eurocopter France (ECF) Model AS332C, L, and L1 helicopters to require an initial and repetitive inspections of the outer skin, butt strap, and fuselage frame for a crack and modification of the helicopter. This AD was prompted by an AD issued by the European Aviation Safety Agency (EASA), which is the Technical Agent for the Member States of the European Union, which states that a crack was discovered in a fuselage frame during a daily check. The actions of this AD are intended to detect a crack, to prevent loss of airframe structural integrity and subsequent loss of control of the helicopter.

DATES: This AD is effective May 23, 2013.

The Director of the Federal Register approved the incorporation by reference of a certain document listed in this AD as of May 23, 2013.

ADDRESSES: For service information identified in this AD, contact American Eurocopter Corporation, 2701 N. Forum Drive, Grand Prairie, Texas 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Gary Roach, Aviation Safety Engineer, Regulations and Policy Group, Rotorcraft Directorate, FAA, 2601 Meacham Blvd., Fort Worth, Texas 76137; telephone (817) 222-5110; email gary.b.roach@faa.gov.

SUPPLEMENTARY INFORMATION:

Discussion

On October 16, 2012, at 77 FR 63262, the Federal Register published our Notice of Proposed Rulemaking (NPRM), which proposed to amend 14 CFR part 39 to include an AD that would apply to certain ECF Model AS332C, L, and L1 helicopters without modification (MOD) 0722907. That NPRM proposed to require an initial and repetitive visual inspections for a crack in the outer skin and the butt strap in the sliding cowling right-hand and left-hand rail attachment areas on Frame 5295, and if there is a crack, inspecting for a crack in Frame 5295 and repairing any cracked part. The NPRM also proposed to require modifying each helicopter with MOD 0726478R2 on the sliding cowling rails and shims in the attachment areas on Frame 5295. The proposed requirements were intended to detect a crack, to prevent loss of airframe structural integrity and subsequent loss of control of the helicopter.

EASA issued EASA AD No. 2008-0035-E, dated February 21, 2008, to correct an unsafe condition for the ECF Model AS 332 C, C1, L, and L1 helicopters. EASA advises that a crack was discovered on an ECF Model AS332L helicopter in fuselage frame 5295, which has plates and angles assembled by riveting that corresponds to the first generation frame (before MOD 0722907). The crack in the frame was found because of a crack in the outer skin and in the butt strap where the rail of the main gear box (MGB) sliding cowling is attached to the frame.

Comments

We gave the public the opportunity to participate in developing this AD, but we did not receive any comments on the NPRM (77 FR 63262, October 16, 2012).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed, except we have updated the contact information for American Eurocopter Corporation. This minor editorial change is consistent with the intent of the proposals in the NPRM (77 FR 63262, October 16, 2012) and will not increase the economic burden on any operator nor increase the scope of the AD.

Differences Between This AD and the EASA AD

This AD requires you to repair Frame 5295 before further flight rather than contacting the manufacturer. This AD refers to a check as an inspection to be performed by a mechanic versus a check that a pilot can do if specifically allowed by the AD. This AD also does not list the Model AS332C1 in the applicability because this model is not type certificated in the U.S. This AD also does not allow further flight with the outer skin or butt strap cracked unless it is a ferry flight to a repair facility.

Related Service Information

Eurocopter has issued Alert Service Bulletin No. 05.00.76, Revision 0, dated February 20, 2008 (ASB), which specifies checking for a crack on the outside of the helicopter, on the skin, and the butt strap near the sliding cowling rail attachment. If a crack is found in the outer skin or butt strap, the ASB specifies visually checking for a crack in Frame 5295. The ASB specifies doing MOD 0726478R2, which consists of cutting out a section of the sliding cowling rails. This cut-out exposes the splice near the rail attachment holes, making it easier to detect a crack in the frame during the 10-hour repetitive inspection and thus reducing the risks of a crack going undetected in Frame 5295. Also, the ASB specifies contacting the manufacturer for the “appropriate repair sheet according to how the crack is situated” if there is a crack in Area 1 of Frame 5295. EASA classified this ASB as mandatory and issued AD No. 2008-0035-E, dated February 21, 2008, to ensure the continued airworthiness of these helicopters.

Costs of Compliance

We estimate that this AD will affect 5 helicopters of U.S. Registry. We estimate that operators may incur the following costs in order to comply with this AD. We estimate that it will take about 4.25 work-hours per helicopter to initially inspect for a crack and to modify the MGB sliding cowling rails. Each 10-hour repetitive inspection will take about 0.25 work-hour. The average labor rate is $85 per work-hour and required parts will cost about $1,793 per helicopter. Based on these figures, we estimate the cost of this AD on U.S. operators will be $17,145 or $3,429 per helicopter, assuming 60 repetitive inspections will be performed each year and assuming the entire fleet is modified and no cracks are found.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-08-07 Eurocopter France: Amendment 39-17424; Docket No. FAA-2012-1087; Directorate Identifier 2009-SW-32-AD.

(a) Applicability

This AD applies to all Model AS332C, L, and L1 helicopters without modification (MOD) 0722907, except helicopters with serial numbers 2078 and 2102, certificated in any category.

(b) Unsafe Condition

This AD defines the unsafe condition as a crack in the outer skin, butt strap, or fuselage frame, which could result in loss of airframe structural integrity, and subsequent loss of control of the helicopter.

(c) Effective Date

This AD becomes effective May 23, 2013.

(d) Compliance

You are responsible for performing each action required by this AD within the specified compliance time unless it has already been accomplished prior to that time.

(e) Required Actions

(1) Within 10 hours time-in-service (TIS) for helicopters that have 8,800 or more hours TIS or before or upon reaching 8,810 hours TIS for helicopters that have less than 8,800 hours TIS, and thereafter at intervals not to exceed 10 hours TIS, visually inspect for a crack on the outer skin and the butt strap in the sliding cowling right-hand and left-hand rail attachment areas on Frame 5295 as shown in Figure 2 of Eurocopter Alert Service Bulletin No. 05.00.76, Revision 0, dated February 20, 2008 (ASB).

(i) If there is a crack in the outer skin or in the butt strap per paragraph (e)(1) of this AD, before further flight, inspect for a crack in Frame 5295 in the areas shown in Figure 3, Area 1, and Figure 4, of the ASB.

(ii) If there is a crack in the outer skin, the butt strap, or in Frame 5295 in the areas inspected as required by this AD, before further flight, repair the part in accordance with a method approved by the FAA.

(2) Within 300 hours TIS, for each helicopter that has 8,800 or more hours TIS, modify the sliding cowling rails and shims in the attachment areas on Frame 5295 (corresponds to MOD 0726478R2), as depicted in Figure 5 and by following the Accomplishment Instructions, paragraph 2.B.3., of the ASB.

(f) Special Flight Permits

A special flight permit is permitted for a helicopter with a crack in the outer skin or butt strap to operate the helicopter to a location where the requirements of this AD can be accomplished. A special flight permit is not permitted for a helicopter with a crack in Frame 5295.

(g) Alternative Methods of Compliance (AMOCs)

(1) The Manager, Safety Management Group, FAA, may approve AMOCs for this AD. Send your proposal to: Gary Roach, Aviation Safety Engineer, Regulations and Policy Group, Rotorcraft Directorate, FAA, 2601 Meacham Blvd., Fort Worth, Texas 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency (France) AD No. 2008-0035-E, dated February 21, 2008.

(i) Subject

Joint Aircraft Service Component (JASC) Code: 5311, Fuselage, Main Frame.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Alert Service Bulletin No. 05.00.76, Revision 0, dated February 20, 2008.

(ii) Reserved.

(3) For Eurocopter service information identified in this AD, contact American Eurocopter Corporation, 2701 N. Forum Drive, Grand Prairie, Texas 75052; telephone (972) 641-0000 or (800) 232-0323; fax (972) 641-3775; or at http://www.eurocopter.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on April 8, 2013.
Kim Smith,
Directorate Manager, Rotorcraft Directorate, Aircraft Certification Service.

[FR Doc. 2013-08763 Filed 4-17-13; 8:45 am]

BILLING CODE 4910-13-P